ENVIRONMENTAL PROTECTION AGENCY

40 CFR Parts 52 and 81

[WI114-01-7344b, FRL-7484-3]

Approval and Promulgation of Air Quality Implementation Plans and Designation of Areas for Air Quality Planning Purposes; Wisconsin

AGENCY: Environmental Protection Agency (EPA).

ACTION: Proposed rule.

SUMMARY: The EPA is proposing to make a determination that Manitowoc and Door Counties in Wisconsin have attained the one-hour ozone National Ambient Air Quality Standard (NAAQS), and we are proposing to approve the State of Wisconsin's request to redesignate Manitowoc and Door Counties to attainment for ground level ozone. In proposing to approve this redesignation request, we are also proposing to approve the State's plan for maintaining the one-hour ozone standard for the next 10 years as a revision to the Wisconsin State Implementation Plan (SIP). We are notifying the public that we believe the motor vehicle emissions budgets for volatile organic compounds (VOC) and oxides of nitrogen (NOX) in the maintenance plan for Manitowoc and Door Counties are adequate for conformity purposes and are proposing to approve the budgets as part of the maintenance plan. We are also proposing to approve a 1999 periodic inventory for the Milwaukee-Racine ozone nonattainment area. The Wisconsin Department of Natural Resources (WDNR) submitted the redesignation request and SIP revisions on January 28, 2003, and submitted additional information on February 5, 2003 and February 27, 2003. In the Final Rules section of this Federal Register, EPA is approving the state's SIP revision, as a direct final rule without prior proposal because the Agency views this as a noncontroversial revision and anticipates no adverse comments. A detailed rationale for the approval is set forth in the direct final rule. If we receive no adverse comments in response to that direct final rule, we plan to take no further action on this proposed rule. If we receive significant adverse comments, in writing, which we have not addressed, we will withdraw the direct final rule and address all public comments received in a subsequent final rule based on this proposed rule. The EPA will not institute a second comment period on this document.

DATES: EPA must receive written comments on or before May 19, 2003.

ADDRESSES: Send written comments to:

Carlton Nash, Chief, Regulation Development Section, Air Programs Branch, (AR-18J), U.S. Environmental Protection Agency, Region 5, 77 West Jackson Boulevard, Chicago, Illinois 60604.

You may inspect copies of the documents relevant to this action during normal business hours at the following location:

Regulation Development Section, Air Programs Branch, (AR-18J), U.S. Environmental Protection Agency, Region 5, 77 West Jackson Boulevard, Chicago, Illinois 60604.

Please contact Kathleen D'Agostino at (312) 886-1767 before visiting the Region 5 office.

FOR FURTHER INFORMATION CONTACT: Kathleen D'Agostino, Environmental Engineer, Regulation Development Section, Air Programs Branch (AR-18J), U.S. Environmental Protection Agency, Region 5, 77 West Jackson Boulevard, Chicago, Illinois 60604, (312) 886-1767.

SUPPLEMENTARY INFORMATION:

Where Can I Find More Information About This Proposal and the Corresponding Direct Final Rule?

For additional information see the direct final rule published in the rules section of this Federal Register.

Dated: April 3, 2003.
Bharat Mathur,
Acting Regional Administrator, Region 5.

[FR Doc. 03-9348 Filed 4-16-03; 8:45 am]

BILLING CODE 6560-50-P